DEPARTMENT OF TRANSPORTATION

Office of the Secretary

Review Under 49 U.S.C. 41720 of United/US Airways Agreements

AGENCY: Office of the Secretary, Department of Transportation.

ACTION: Extension of waiting period.

SUMMARY: United Air Lines and US Airways have submitted code-sharing and frequent flyer program reciprocity agreements to the Department for review under 49 U.S.C. 41720. That statute requires such agreements between major U.S. passenger airlines to be submitted to the Department at least thirty days before the agreements' proposed effective date and authorizes the Department to extend the waiting period for any such agreement. The Department has determined to extend the waiting period for the United/US Airways agreements for an additional thirty days.

FOR FURTHER INFORMATION CONTACT: Thomas Ray, Office of the General Counsel, 400 Seventh St. SW., Washington, DC 20590, (202) 366-4731.

SUPPLEMENTARY INFORMATION: On July 25 United and US Airways submitted code-sharing and frequent flyer program reciprocity agreements to the Department more than thirty days before the airlines planned to implement them, as required by 49 U.S.C. 41720. That statute authorizes us to extend the waiting period by 150 days for code-sharing agreements and 60 days for the other types of agreements covered by the advance-filing requirement. We have extended the waiting period once by thirty days. 67 FR 54525 (August 22, 2002).

As has been true for all agreements submitted under 49 U.S.C. 41720 since its enactment, our review of the United/US Airways agreements has been informal, but we have given interested parties an opportunity to submit comments on the agreements. 67 FR 50745 (August 5, 2002). We have been reviewing the agreements, the comments submitted by outside parties, and other information in our possession, and we have been discussing the issues with the Justice Department.

We have again concluded that we need additional time for analyzing the agreements. The agreements present important issues that demand careful examination. We have therefore determined to extend the waiting period by another thirty days, from September 23 to October 23. While we may extend the waiting period for the code-share agreement after this extension if necessary, this will be the last extension of the waiting period permitted by statute for the frequent-flyer reciprocity agreement.

We are aware that the two airlines wish to be able to implement the agreements promptly, and we therefore intend to conclude our review as soon as reasonably possible.

Issued in Washington, DC, on September 17, 2002.
Read C. Van de Water,
Assistant Secretary for Aviation and International Affairs.

[FR Doc. 02-23969 Filed 9-19-02; 8:45 am]

BILLING CODE 4910-62-P